DEPARTMENT OF HOMELAND SECURITY

Federal Emergency Management Agency

[Docket ID FEMA-2013-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case no. | Chief executive officer of community | Community map repository | Effective date of modification | Community no.
Arkansas: Garland, (FEMA Docket No.: B-1318) | City of Hot Springs, (13-06-1387P) | The Honorable Ruth Carney, Mayor, City of Hot Springs, 133 Convention Boulevard, Hot Springs National Park, AR 71901 | City Hall Annex, 111 Opera Street, Hot Springs National Park, AR 71901 | September 23, 2013 | 050084
New Mexico
Bernalillo, (FEMA Docket No.: B-1324) | City of Albuquerque, (12-06-3488P) | The Honorable Richard J. Berry, Mayor, City of Albuquerque, P.O. Box 1293, Albuquerque, NM 87103 | Planning Department, 600 2nd Street Northwest, Albuquerque, NM 87102 | August 12, 2013 | 350002
Otero, (FEMA Docket No.: B-1338) | City of Alamogordo, (13-06-0956P) | The Honorable Susie Galea, Mayor, City of Alamogordo, 1376 East 9th Street, Alamogordo, NM 88310 | 1376 East 9th Street, Alamogordo, NM 88310 | September 23, 2013 | 350045
Otero, (FEMA Docket No.: B-1338) | Unincorporated areas of Otero County, (13-06-0956P) | Ms. Pamela Heltner, County Manager, Otero County, 1101 New York Avenue, Room 106, Alamogordo, NM 88310 | Otero County, 1101 New York Avenue, Room 106, Alamogordo, NM 88310 | September 23, 2013 | 350044
Oklahoma:
Oklahoma, (FEMA Docket No.: B-1324) | City of Oklahoma City, (12-06-4147P) | The Honorable Mick Cornett, Mayor, City of Oklahoma City, 200 North Walker Avenue, 3rd Floor, Oklahoma City, OK 73102 | 420 West Main Street, Suite 700, Oklahoma City, OK 73102 | August 12, 2013 | 405378
Woods, (FEMA Docket No.: B-1324) | Unincorporated areas of Woods County, (12-06-2877P) | The Honorable Clint Strawn, Chairman, Woods County Board of Commissioners, P.O. Box 386, Alva, OK 73717 | Woods County Courthouse, 407 Government Street, Alva, OK 73717 | August 12, 2013 | 400481
Pennsylvania:
Chester, (FEMA Docket No.: B-1338) | Township of East Whiteland, (12-03-2075P) | The Honorable Virginia McMichael, Chairman, East Whiteland Township Board of Supervisors, 209 Conestoga Road, Frazer, PA 19355 | East Whiteland Township Building, 209 Conestoga Road, Frazer, PA 19355 | September 19, 2013 | 420279
Chester, (FEMA Docket No.: B-1338) | Township of Tredyffrin, (12-03-2075P) | The Honorable Michelle H. Kichline, Chairman, Tredyffrin Township Board of Supervisors, 1100 Duportail Road, Berwyn, PA 19312 | Tredyffrin Municipal Building, 1100 Duportail Road, Berwyn, PA 19312 | September 19, 2013 | 420291
Montgomery, (FEMA Docket No.: B-1341) | Township of Whitpain, (12-03-1849P) | The Honorable Joseph J. Palmer, Chairman, Township of Whitpain Board of Supervisors, 960 Wentz Road, Blue Bell, PA 19422 | Whitpain Township Building, 960 Wentz Road, Blue Bell, PA 19422 | August 12, 2013 | 420713
Texas:
Bell, (FEMA Docket No.: B-1341) | City of Killeen, (13-06-0268P) | The Honorable Daniel A. Corbin, Mayor, City of Killeen, P.O. Box 1329, Killeen, TX 76540 | City Hall, 101 North College Street, Killeen, TX 76541 | September 9, 2013 | 480031
Bell, (FEMA Docket No.: B-1341) | City of Killeen, (13-06-2244P) | The Honorable Daniel A. Corbin, Mayor, City of Killeen, P.O. Box 1329, Killeen, TX 76540 | City Hall, 101 North College Street, Killeen, TX 76541 | October 7, 2013 | 480031
Bexar, (FEMA Docket No.: B-1338) | City of San Antonio, (13-06-0089P) | The Honorable Julian Castro, Mayor, City of San Antonio, P.O. Box 839966, San Antonio, TX 78283 | Department of Public Works, Storm Water Engineering, 1901 South Alamo Street, 2nd Floor, San Antonio, TX 78204 | September 3, 2013 | 480045
Bexar, (FEMA Docket No.: B-1338) | City of San Antonio, (13-06-1508P) | The Honorable Julian Castro, Mayor, City of San Antonio, P.O. Box 839966, San Antonio, TX 78283 | Department of Public Works, Storm Water Engineering, 1901 South Alamo Street, 2nd Floor, San Antonio, TX 78204 | September 25, 2013 | 480045
Bexar, (FEMA Docket No.: B-1341) | City of San Antonio, (13-06-0967P) | The Honorable Julian Castro, Mayor, City of San Antonio, P.O. Box 839966, San Antonio, TX 78283 | Department of Public Works, Storm Water Engineering, 1901 South Alamo Street, 2nd Floor, San Antonio, TX 78204 | October 7, 2013 | 480045
Bexar, (FEMA Docket No.: B-1349) | City of San Antonio, (13-06-1131P) | The Honorable Julian Castro, Mayor, City of San Antonio, P.O. Box 839966, San Antonio, TX 78283 | Department of Public Works, Storm Water Engineering, 1901 South Alamo Street, 2nd Floor, San Antonio, TX 78204 | October 21, 2013 | 480045
Bexar, (FEMA Docket No.: B-1338) | Unincorporated areas of Bexar County, (13-06-0089P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | September 3, 2013 | 480035
Bexar, (FEMA Docket No.: B-1341) | Unincorporated areas of Bexar County, (13-06-2069P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | October 7, 2013 | 480035
Bexar, (FEMA Docket No.: B-1349) | Unincorporated areas of Bexar County, (13-06-1809P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | October 10, 2013 | 480035
Brazoria, (FEMA Docket No.: B-1338) | City of West Columbia, (12-06-1432P) | The Honorable Laurie B. Kincannon, Mayor, City of West Columbia, P.O. Box 487, West Columbia, TX 77486 | 512 East Brazos Avenue, West Columbia, TX 77486 | August 29, 2013 | 480081
Brazoria, (FEMA Docket No.: B-1338) | Unincorporated areas of Brazoria County, (12-06-1432P) | The Honorable Joe King, Brazoria County Judge, 111 East Locust Street, Suite 102, Angleton, TX 77515 | Brazoria County, 451 North Velasco Street, Suite 210, Angleton, TX 77515 | August 29, 2013 | 485458
Brazos, (FEMA Docket No.: B-1324) | City of Bryan, (12-06-2987P) | The Honorable Jason Bienski, Mayor, City of Bryan, 300 South Texas Avenue, Bryan, TX 77803 | City Hall, 300 South Texas Avenue, Bryan, TX 77803 | August 12, 2013 | 480082
Collin, (FEMA Docket No.: B-1338) | City of Plano, (12-06-4168P) | The Honorable Phil Dyer, Mayor, City of Plano, P.O. Box 860358, Plano, TX 75086 | City Hall, 1520 Avenue K, Plano, TX 75074 | September 20, 2013 | 480140
Collin, (FEMA Docket No.: B-1349) | Unincorporated areas of Collin County, (13-06-1085P) | The Honorable Keith Self, Collin County Judge, 2300 Bloomdale Road, Suite 4192, McKinney, TX 75071 | Collin County Department of Public Works, 210 South McDonald Street, McKinney, TX 75069 | October 24, 2013 | 480130
Dallas, (FEMA Docket No.: B-1338) | City of Coppell, (13-06-0810P) | The Honorable Karen Hunt, Mayor, City of Coppell, P.O. Box 9478, Coppell, TX 75019 | City Engineering Department, 255 Parkway Boulevard, Coppell, TX 75019 | September 9, 2013 | 480170
Dallas, (FEMA Docket No.: B-1341) | City of Garland, (13-06-0314P) | The Honorable Douglas Athas, Mayor, City of Garland, 200 North 5th Street, Garland, TX 75040 | 800 Main Street, Garland, TX 75040 | October 7, 2013 | 485471
Dallas, (FEMA Docket No.: B-1338) | City of Grand Prairie, (13-06-1633P) | The Honorable Charles England, Mayor, City of Grand Prairie, P.O. Box 534045, Grand Prairie, TX 75053 | City Development Center, 206 West Church Street, Grand Prairie, TX 75050 | September 9, 2013 | 485472
Dallas, (FEMA Docket No.: B-1341) | City of Sachse, (13-06-0314P) | The Honorable Mike Felix, Mayor, City of Sachse, 3815 Sachse Road, Building B, Sachse, TX 75048 | Community Development Department, 5560 Highway 78, Sachse, TX 75048 | October 7, 2013 | 480186
Denton, (FEMA Docket No.: B-1324) | City of Frisco, (12-06-4054P) | The Honorable Maher Maso, Mayor, City of Frisco, 6101 Frisco Square Boulevard, Frisco, TX 75034 | City Hall, 6101 Frisco Square Boulevard, Frisco, TX 75034 | August 19, 2013 | 480134
Denton, (FEMA Docket No.: B-1331) | City of Frisco, (12-06-3923P) | The Honorable Maher Maso, Mayor, City of Frisco, 6101 Frisco Square Boulevard, Frisco, TX 75034 | City Hall, 6101 Frisco Square Boulevard, Frisco, TX 75034 | September 3, 2013 | 480134
Denton, (FEMA Docket No.: B-1324) | Town of Little Elm, (12-06-4054P) | The Honorable David Hillock, Mayor, Town of Little Elm, 100 West Eldorado Parkway, Little Elm, TX 75068 | Town Hall, 100 West Eldorado Parkway, Little Elm, TX 75068 | August 19, 2013 | 481152
Fort Bend, (FEMA Docket No.: B-1324) | City of Katy, (12-06-1798P) | The Honorable Don Elder, Jr., Mayor, City of Katy, P.O. Box 617, Katy, TX 77493 | Public Works Department, 910 Avenue C, Katy, TX 77493 | August 2, 2013 | 480301
Harris, (FEMA Docket No.: B-1331) | City of Pasadena, (13-06-0356P) | The Honorable John Isbell, Mayor, City of Pasadena, 1211 Southmore Avenue, Pasadena, TX 77502 | 1201 Jeff Ginn Memorial Drive, Pasadena, TX 77502 | August 30, 2013 | 480307
Hays, (FEMA Docket No.: B-1324) | City of Niederwald, (12-06-3911P) | The Honorable Reynell Smith, Mayor, City of Niederwald, 13851 Camino Real, Niederwald, TX 78640 | City Office, 13851 Camino Real, Niederwald, TX 78640 | August 15, 2013 | 481670
Hays, (FEMA Docket No.: B-1324) | Unincorporated areas of Hays County, (12-06-3911P) | The Honorable Bert Cobb, M.D., Hays County Judge, 111 East San Antonio Street, Suite 300, San Marcos, TX 78666 | Hays County Environmental Health Department, 1251 Civic Center Loop, San Marcos, TX 78666 | August 15, 2013 | 480321
Johnson, (FEMA Docket No.: B-1331) | City of Burleson, (12-06-3813P) | The Honorable Ken D. Shetter, Mayor, City of Burleson, 141 West Renfro Street, Burleson, TX 76028 | City Hall, 141 West Renfro Street, Burleson, TX 76028 | August 29, 2013 | 485459
Johnson, (FEMA Docket No.: B-1341) | City of Burleson, (12-06-1425P) | The Honorable Ken D. Shetter, Mayor, City of Burleson, 141 West Renfro Street, Burleson, TX 76028 | City Hall, 141 West Renfro Street, Burleson, TX 76028 | October 3, 2013 | 485459
Montgomery, (FEMA Docket No.: B-1338) | Unincorporated areas of Montgomery County, (13-06-1567P) | The Honorable Alan B. Sadler, Montgomery County Judge, 501 North Thompson Street, Suite 401, Conroe, TX 77301 | Montgomery County Permitting Department, 501 North Thompson Street, Suite 100, Conroe, TX 77301 | September 26, 2013 | 480483
Tarrant, (FEMA Docket No.: B-1338) | City of Fort Worth, (13-06-1283P) | The Honorable Betsy Price, Mayor, City of Fort Worth, 1000 Throckmorton Street, Fort Worth, TX 76102 | Department of Transportation and Public Works, 1000 Throckmorton Street, Fort Worth, TX 76102 | September 5, 2013 | 480596
Tarrant, (FEMA Docket No.: B-1341) | City of Keller, (13-06-0279P) | The Honorable Pat McGrail, Mayor, City of Keller, 1100 Bear Creek Parkway, Keller, TX 76248 | City Hall, 1100 Bear Creek Parkway, Keller, TX 76248 | August 12, 2013 | 480602
Travis, (FEMA Docket No.: B-1324) | City of Austin, (13-06-0132P) | The Honorable Lee Leffingwell, Mayor, City of Austin, P.O. Box 1088, Austin, TX 78767 | Stormwater Management Division, 505 Barton Springs Road, Suite 908, Austin, TX 78704 | August 8, 2013 | 480624
Travis, (FEMA Docket No.: B-1331) | Unincorporated areas of Travis County, (13-06-0775P) | The Honorable Samuel T. Biscoe, Travis County Judge, P.O. Box 1748, Austin, TX 78767 | Travis County Administration Building, Transportation and Natural Resources Department, 700 Lavaca Street,, 5th Floor, Austin, TX 78701 | August 26, 2013 | 481026
Virginia: Loudoun, (FEMA Docket No.: B-1338) | Unincorporated areas of Loudoun County, (12-03-1164P) | The Honorable Scott K. York, Chairman-at-Large, Loudoun County Board of Supervisors, 1 Harrison Street Southeast, 5th Floor, Mailstop 1, Leesburg, VA 20175 | Loudoun County Building and Development Department, 1 Harrison Street Southeast, Leesburg, VA 20175 | September 19, 2013 | 510090
West Virginia: Kanawha, (FEMA Docket No.: B-1324) | Unincorporated areas of Kanawha County, (13-03-0645P) | The Honorable W. Kent Carper, President, Kanawha County Commission, 407 Virginia Street East, Charleston, WV 25301 | Kanawha County Courthouse, Planning and Development Department, 407 Virginia Street East, Charleston, WV 25301 | August 12, 2013 | 540070

(Catalog of Federal Domestic Assistance No. 97.022, “Flood Insurance.”)

Dated: November 20, 2013.
Roy E. Wright,
Deputy Associate Administrator for Mitigation, Department of Homeland Security, Federal Emergency Management Agency.

[FR Doc. 2013-30944 Filed 12-26-13; 8:45 am]

BILLING CODE 9110-12-P